DEPARTMENT OF ENERGY

Federal Energy Regulatory Commission

[Docket No. TM99-1-22-010]

CNG Transmission Corporation; Notice of Proposed Changes in FERC Gas Tariff

February 1, 2000.

Take notice that on January 27, 2000, CNG Transmission Corporation (CNG), filed as part of its FERC Gas Tariff, Second Revised Volume No. 1, the following revised tariff sheets:

Eighth Substitute 17th Revised Sheet No. 31

Fourth Substitute 19th Revised Sheet No. 35

CNG requests an effective date of November 1, 1998, for Eighth Substitute 17th Revised Sheet No. 31 and an effective date of January 1, 1999, for Fourth Substitute 19th Revised Sheet No. 35.

CNG states that the purpose of its filing is to correct two inadvertent and recently discovered errors appearing on two tariff sheets filed on November 10, 1999, in Docket No. TM99-1-22-008. CNG also states that the changes do not affect the amounts billed to CNG's customers.

CNG states that copies of its filing are being served upon the parties listed on the Official Service List of the proceeding.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-2656 Filed 2-4-00; 8:45 am]

BILLING CODE 6717-01-M